DEPARTMENT OF COMMERCE

International Trade Administration

Application for Duty-Free Entry of Scientific Instrument

Pursuant to section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Room 2104, 14th and Constitution Avenue NW., Washington, DC 20230. Applications may be examined between 8:30 a.m., and 5 p.m., in Room 2104, at the above address.

Docket Number: 07-040. Applicant: Penn State University, 311 Deike Building, University Park, PA 16802. Instrument: Distributed Temperature Sensor, model Sentinel DTS-SR(0-5KM). Manufacturer: Sensornet Ltd., United Kingdom. Intended Use: The instrument is intended to be used for a study that involves the determination of stream-aquifer interaction as related to precipitation events, and the detection of areas that build and release moisture along the hillslope. The work will involve collection of field-based physical measurements of groundwater discharge, including spatially and temporally exhaustive temperature gradients and Darcian flux calculations, to improve quantification of streambed leakage and assess the rate and scale of stream-aquifer exchange to determine controls on threshold behavior. Good temperature resolution and capability to collect data every minute to 0.1° C. accuracy are essential to the research. Application accepted by Commissioner of Customs: September 5, 2007.

Dated: October 15, 2007.
Faye Robinson,
Director, Statutory Import Programs Staff, Import Administration.

[FR Doc. E7-20576 Filed 10-17-07; 8:45 am]

BILLING CODE 3510-DS-P